ENVIRONMENTAL PROTECTION AGENCY

40 CFR Part 52

[EPA-R09-OAR-2009-0473; FRL-8929-6]

Revisions to the California State Implementation Plan, San Joaquin Valley Air Pollution Control District

AGENCY: Environmental Protection Agency (EPA).

ACTION: Proposed rule.

SUMMARY: EPA is proposing to approve revisions to the San Joaquin Valley Air Pollution Control District portion of the California State Implementation Plan (SIP). These revisions concern volatile organic compound (VOC) emissions from graphic arts printing operations, digital printing operations, adhesives, cleaning solvents, transfer of organic liquids, and facilities engaged in coating of wood products, flat paneling, paper, film, foil, and fabric. We are approving 4 local rules that regulate these emission sources under the Clean Air Act as amended in 1990 (CAA or the Act). We are taking comments on this proposal and plan to follow with a final action.

DATES: Any comments must arrive by August 12, 2009.

ADDRESSES: Submit comments, identified by docket number [EPA-R09-OAR-2009-0473], by one of the following methods:

1. Federal eRulemaking Portal: http://www.regulations.gov. Follow the on-line instructions.

2. E-mail: steckel.andrew@epa.gov.

3. Mail or delivery: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Nicole Law, EPA Region IX, (415) 947-4126, Law.Nicole@epa.gov.

SUPPLEMENTARY INFORMATION: Throughout this document, “we,” “us” and “our” refer to EPA.

Table of Contents

I. The State's Submittal

A. What Rules Did the State Submit?

B. Are There Other Versions of These Rules?

C. What Is the Purpose of the Submitted Rules and Rule Revisions?

II. EPA's Evaluation and Action

A. How Is EPA Evaluating the Rules?

B. Do the Rules Meet the Evaluation Criteria?

C. EPA Recommendations To Further Improve the Rules

D. Public Comment and Final Action

III. Statutory and Executive Order Reviews

I. The State's Submittal

A. What Rules Did the State Submit?

Table 1 lists the rules addressed by this proposal with the dates that they were adopted by the local air agency and submitted by the California Air Resources Board.

Table 1—Submitted Rules
Local agency | Rule No. | Rule title | Adopted | Submitted
SJVAPCD | 4606 | Wood Products and Flat Wood Paneling Product Coating Operations | 10/16/08 | 12/23/08
SJVAPCD | 4607 | Graphic Arts and Paper, Film, Foil, and Fabric Coatings | 12/18/08 | 03/17/09
SJVAPCD | 4624 | Transfer of Organic Liquid | 09/20/07 | 03/07/08
SJVAPCD | 4653 | Adhesives | 12/20/07 | 03/07/08

On April 17, 2008 and April 20, 2009, EPA determined that these rule submittals met the completeness criteria in 40 CFR Part 51, Appendix V, which must be met before formal EPA review.

B. Are There Other Versions of These Rules?

There are no previous versions of Rule 4624 in the SIP. We approved earlier versions of Rules 4606 and 4607 into the SIP on June 26, 2002 (67 FR 42999). SJVAPCD adopted revisions to the SIP-approved version of Rule 4606 on September 20, 2007 and October 16, 2008 and CARB submitted them to us on March 7, 2008 and December 23, 2008. SJVAPCD adopted revisions to the SIP-approved version of Rule 4607 on September 20, 2007 and December 18, 2008 and CARB submitted them to us on March 7, 2008 and March 17, 2009. We approved an earlier version of Rule 4653 into the SIP on May 7, 2002 (57 FR 30591). SJVAPCD adopted revisions to the SIP-approved version of Rule 4653 on September 20, 2007 and CARB submitted it to us on March 7, 2008. While we are only acting on the most recently submitted version, we have reviewed materials provided with previous submittals.

C. What Is the Purpose of the Submitted Rules and Rule Revisions?

VOCs help produce ground-level ozone and smog, which harm human health and the environment. Section 110(a) of the CAA requires States to submit regulations that control VOC emissions. These rules control VOC emissions by limiting VOC content in coatings used for graphic arts operations, printing operations, wood products, flat paneling, paper, film, foil, and fabric. In addition, the rules limit VOCs by regulating adhesives, cleaning solvents, and transfer of organic liquids. EPA's technical support documents (TSDs) have more information about these rules.

II. EPA's Evaluation and Action

A. How Is EPA Evaluating the Rules?

Generally, SIP rules must be enforceable (see section 110(a) of the Act), must require Reasonably Available Control Technology (RACT) for each category of sources covered by a Control Techniques Guidelines (CTG) document as well as each major source in nonattainment areas (see sections 182(a)(2) and (b)(2)), and must not relax existing requirements (see sections 110(l) and 193). The SJVAPCD regulates an extreme (for the 1-hour NAAQS) and serious (for the 8-hour NAAQS) ozone nonattainment area (see 40 CFR part 81), so Rules 4606, 4607, 4626, and 4653 must fulfill RACT.

Guidance and policy documents that we use to evaluate enforceability and RACT requirements consistently include the following:

1. Portions of the proposed post-1987 ozone and carbon monoxide policy that concern RACT, 52 FR 45044, November 24, 1987.

2. “Issues Relating to VOC Regulation Cutpoints, Deficiencies, and Deviations,” EPA, May 25, 1988 (the Bluebook).

3. “Guidance Document for Correcting Common VOC & Other Rule Deficiencies,” EPA Region 9, August 21, 2001 (the Little Bluebook).

4. “State Implementation Plans, General Preamble for the Implementation of Title I of the Clean Air Amendments of 1990,” 57 FR 13498, April 16, 1992.

5. “Preamble, Final Rule to Implement the 8-hour Ozone National Ambient Air Quality Standard” 70 FR 71612; Nov. 29, 2005.

6. Letter from William T. Hartnett to Regional Air Division Directors, “RACT Qs & As—Reasonable Available Control Technology (RACT) Questions and Answers,” May 18, 2006.

7. “Control of Volatile Organic Compound Emissions from Wood Furniture Manufacturing Operations,” EPA-453/R-96-007, April 1996.

8. “Control Techniques Guidelines for Flat Wood Paneling Coatings,” EPA-453/R-06-004, September 2006.

9. “Control Technique Guidelines for Control of VOCs from Existing Stationary Sources—Volume II: Surface Coating of Cans, Coils, Paper, Fabrics, Automobiles, and Light-Duty Trucks,” EPA-450/2-77-008, May 1977.

10. “Control Techniques Guidelines for Control of VOCs from Existing Stationary Sources—Volume VIII: Graphic Arts—Rotogravure and Flexography,” EPA-450/2-78-033, December 1978.

11. “Control Techniques Guidelines for Offset Lithographic Printing and Letterpress Printing,” EPA-453/R-06-002, September 2006.

12. “Control Techniques Guidelines for Flexible Package Printing,” EPA-453/R-06-003, September 2006.

13. “Control Techniques Guidelines for Paper, Film, and Foil Coatings,” EPA-453/R-07-003, September 2007.

14. “Control of Hydrocarbons from Tank Truck Gasoline Loading Terminals,” EPA-450/2-77-026, October 1977.

15. “Control Techniques Guidelines for Miscellaneous Industrial Adhesives,” EPA-453/R-08-005, September 2008.

16. “Determination of Reasonably Available Control Technology and Best Available Retrofit Control Technology for Adhesives and Sealants,” CARB, December 1998.

B. Do the Rules Meet the Evaluation Criteria?

We believe these rules are consistent with the relevant requirements, policy, and guidance regarding enforceability, RACT, and SIP relaxations. The TSDs have more information on our evaluation.

C. EPA Recommendations To Further Improve the Rules

The TSDs describe additional rule revisions that do not affect EPA's current action but are recommended for the next time the local agency modifies the rules.

D. Public Comment and Final Action

Because EPA believes the submitted rules fulfill all relevant requirements, we are proposing to fully approve them as described in section 110(k)(3) of the Act. We will accept comments from the public on this proposal for the next 30 days. Unless we receive convincing new information during the comment period, we intend to publish a final approval action that will incorporate these rules into the Federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Intergovernmental relations, Ozone, Reporting and recordkeeping requirements, Volatile organic compounds.

Authority: 42 U.S.C. 7401 et seq.

Dated: June 26, 2009.
Jane Diamond,
Acting Regional Administrator, Region IX.

[FR Doc. E9-16490 Filed 7-10-09; 8:45 am]

BILLING CODE 6560-50-P